DEPARTMENT OF COMMERCE

Foreign-Trade Zones Board

[Docket 12-2001]

Foreign-Trade Zone 54—Clinton County, New York; Application for Expansion

An application has been submitted to the Foreign-Trade Zones Board (the Board) by the County of Clinton, New York, grantee of FTZ 54, requesting authority to expand its general-purpose zone site to include an additional site in Champlain, New York. The application was submitted pursuant to the provisions of the Foreign-Trade Zones Act, as amended (19 U.S.C. 81a-81u), and the regulations of the Board (15 CFR Part 400). It was formally filed on February 20, 2001.

FTZ 54 was approved on February 14, 1980 (Board Order 153, 45 FR 12469, 2/26/80) and expanded on September 23, 1982 (Board Order 196, 47 FR 43102, 9/30/82), and on May 29, 1996 (Board Order 829, 61 FR 28840, 6/6/96). The zone project currently includes three general-purpose zone sites: Site 1 (123 acres)—Clinton County Air Industrial Park, Plattsburgh; Site 2 (11 acres)—One Trans-Boarder Drive, Champlain, at I-87 and U.S. Route 11, operated by Trans-Border Customs Services, Inc.; Site 3 (200 acres)—Champlain Industrial Park, located on New York State Route 11 in Champlain (also include a temporary parcel (expires 11/30/01) located at 5 Coton Lane (4 acres)); and, a Temporary Site—(15,000 sq. ft.) located at 2002 Ridge Road, Champlain (expires 11/30/01). An application is currently pending for an additional site at the former Plattsburgh Air Force Base in Plattsburgh (FTZ Doc. 57-2000).

The applicant is now requesting authority to expand its zone project to include an additional site (11.5 acres) at the World Warehouse and Distribution facility, 2002 Ridge Road, Champlain (Proposed Site 5). The facility will be operated by World Warehouse as a public warehouse facility with packaging services. The proposed expansion will include the temporary site. No specific manufacturing requests are being made at this time. Such requests would be made to the Board on a case-by-case basis.

In accordance with the Board's regulations, a member of the FTZ Staff has been designated examiner to investigate the application and report to the Board.

Public comment is invited from interested parties. Submissions (original and 3 copies) shall be addressed to the Board's Executive Secretary at the address below. The closing period for their receipt is April 30, 2001. Rebuttal comments in response to material submitted during the foregoing period may be submitted during the subsequent 15-day period (to May 14, 2001).

A copy of the application and accompanying exhibits will be available for public inspection at each of the following locations:

The Development Corporation of Clinton County, New York, 61 Area Development Drive, Plattsburgh, New York 12901, and

Office of the Executive Secretary, Foreign-Trade Zones Board, U.S. Department of Commerce, 14th & Pennsylvania Avenue, NW., Washington DC 20230.

Dated: February 21, 2001.
Dennis Puccinelli,
Executive Secretary.

[FR Doc. 01-4775 Filed 2-26-01; 8:45 am]

BILLING CODE 3510-DS-P